DEPARTMENT OF THE INTERIOR

Fish and Wildlife Service

[FWS-R6-R-2011-N212; FF06R06000-FXRS1265066CCP0S2-123]

Establishment of Flint Hills Legacy Conservation Area, Kansas

AGENCY: Fish and Wildlife Service, Interior.

ACTION: Notice.

SUMMARY: This notice advises the public that the U.S. Fish and Wildlife Service (Service) has established the Flint Hills Legacy Conservation Area, the 555th unit of the National Wildlife Refuge System. The Service established the Flint Hills Legacy Conservation Area on September 28, 2011, with the donation of a conservation easement in Chautauqua County, Kansas.

ADDRESSES: A map depicting the approved Refuge boundary and other information regarding the Refuge is available on the Internet at http://www.fws.gov/mountain-prairie/planning/.

FOR FURTHER INFORMATION CONTACT: Amy Thornburg, Planning Team Leader, USFWS, Division of Refuge Planning, P.O. Box 25486, DFC, Denver, CO 80225.

SUPPLEMENTARY INFORMATION: The Service established the Flint Hills Legacy Conservation Area, which covers all or part of 21 counties in eastern Kansas. Today, less than 4 percent of the once-vast tallgrass prairie remains, most (80 percent) of which lies within the Flint Hills of eastern Kansas and northeastern Oklahoma. The Service will work to conserve tallgrass prairie and the wildlife resources in the conservation area primarily through the purchase of perpetual easements from willing sellers in Kansas. These conservation easements will protect native grassland birds, as well as over 80 species of native fish, and native mollusks that depend on the pristine streams that are found in the Flint Hills region.

The Service recognizes the importance of protecting and fostering traditional cultural values, including ranching lifestyles and economies, in concert with habitat conservation interests. Ranching has historically played a major role in preserving the tallgrass ecoregion—and by extension, conserving valuable fish and wildlife habitat. Based on anticipated levels of landowner participation, objectives for the conservation area are to protect up to 1.1 million acres of tallgrass prairie habitat. The conservation area is a landscape-scale effort to conserve populations of native grassland birds, which are among the most consistently declining species in the United States. Therefore, it is important to incorporate the elements of strategic habitat conservation (SHC) to ensure effective conservation. SHC entails strategic biological planning and conservation design, and integrated conservation delivery, monitoring, and research at ecoregional scales.

This conservation area allows the Service to purchase perpetual conservation easements, using the acquisition authority of the Fish and Wildlife Act of 1956 (16 U.S.C. 742a-j). The Federal money used to acquire conservation easements is primarily from the Land and Water Conservation Fund Act of 1965, as amended (16 U.S.C. 460l-4 through 11) (derived primarily from oil and gas leases on the Outer Continental Shelf, motorboat fuel taxes, and the sale of surplus Federal property). Additional funding to acquire lands, water, or interests for fish and wildlife conservation purposes could be identified by Congress or donated by nonprofit organizations. The purchase of easements from willing sellers will be subject to available money.

The Service has involved the public, agencies, partners, and legislators throughout the planning process for the easement program. At the beginning of the planning process, the Service initiated public involvement for the proposal to protect habitats primarily through acquisition of conservation easements for management as part of the Refuge System. The Service spent time discussing the proposed project with landowners; conservation organizations; Federal, State and county governments; tribes; and other interested groups and individuals. For initial public scoping, the Service held three open-house meetings, on November 30, December 1, and December 2, 2009, in Alma, Wichita, and Cottonwood Falls, Kansas, respectively. These open houses were announced in local media.

In compliance with the National Environmental Policy Act of 1969 (42 U.S.C. 4321 et seq.), the Service prepared an environmental assessment (EA) that evaluated two alternatives and their potential impacts on the project area. The Service released the draft EA and land protection plan (LPP), on April 14, 2010, for a 30-day public review period. The draft documents were made available to Federal elected officials and agencies, State elected officials and agencies, Native American tribes with aboriginal or tribal interests, and other members of the public that were identified during the scoping process. The Service held three additional open-house public meetings to discuss the draft EA and land protection plan LPP, on April 21, 22, and 23, 2010—at El Dorado, Cottonwood Falls, and Alma, Kansas, respectively. These meetings were announced in advance in local media. Approximately 148 landowners, citizens, and elected representatives attended the meetings. The Service received 7 letters from agencies, organizations, and other entities, and 24 general public comments. After all comments were received, they were reviewed and incorporated into the EA and administrative record.

Based on the documentation contained in the EA, a Finding of No Significant Impact was signed on July 30, 2010, for the establishment of the Flint Hills Legacy Conservation Area.

Dated: December 23, 2011.
Noreen E. Walsh,
Deputy Regional Director, Mountain-Prairie Region, U.S. Fish and Wildlife Service.

[FR Doc. 2012-3756 Filed 2-16-12; 8:45 am]

BILLING CODE 4310-55-P